Executive Order 13359 of October 20, 2004

Amendment to Executive Order 13173, Interagency Task Force on the Economic Development of the Central San Joaquin Valley

By the authority vested in me as President by the Constitution and the laws of the United States of America, and in order to improve the operation of the Interagency Task Force on the Economic Development of the Central San Joaquin Valley, it is hereby ordered that Executive Order 13173 of October 25, 2000, is amended as follows:

Section 1. Section 1(b) is amended to read as follows:

“The Task Force shall consist exclusively of the Secretary of Agriculture, the Secretary of Commerce, the Secretary of Defense, the Attorney General, the Secretary of the Interior, the Secretary of Education, the Secretary of Health and Human Services, the Secretary of Housing and Urban Development, the Secretary of Energy, the Secretary of Labor, the Secretary of Transportation, the Secretary of the Treasury, the Director of the Office of Management and Budget, the Director of National Drug Control Policy, the Administrator of General Services, the Administrator of the Small Business Administration, the Administrator of the Environmental Protection Agency, or their designees, and such other senior executive branch officials as may be determined by the Task Force. The Chair of the Task Force shall be the Secretary of Housing and Urban Development. Each of the Federal departments and agencies, as appropriate, shall designate one staff person, for the years 2004 through 2006, to work on issues of the Task Force and to ensure the participation of the staff person's department or agency in the operations of the Task Force.”

Sec. 2. Section 1(c)(1) is amended by inserting “regulations,” after “analyze”.

Sec. 3. Section 5 is amended to read as follows:

“Judicial Review. This order is intended only to improve the internal management of the Federal Government and is not intended to, and does not, create any right, benefit, or trust responsibility, substantive or procedural, enforceable at law or in equity by a party against the United States, its agencies, entities, its officers or employees, or any other person.”

B

THE WHITE HOUSE,

October 20, 2004.

[FR Doc. 04-23994

Filed 10-22-04; 9:08 am]

Billing code 3195-01-P